FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202) 523-5793 or tradeanalysis@fmc.gov.

Agreement No.: 201372.

Agreement Name: Liberty/Wallenius Wilhelmsen Ocean/Eukor Car Carriers Space Charter Agreement.

Parties: Eukor Car Carriers, Inc.; Liberty Global Logistics LLC; And Wallenius Wilhelmsen Ocean AS.

Filing Party: Wayne Rohde; Cozen O'Connor.

Synopsis: The agreement would authorize the parties to charter space to/from one another on an “as needed/as available” basis in all trades in the foreign commerce of the United States.

Proposed Effective Date: 10/22/2021.

Location: https://www2.fmc.gov/FMC.Agreements.Web/Public/AgreementHistory/50508.

Dated: September 10, 2021.
Rachel E. Dickon,
Secretary.

[FR Doc. 2021-19922 Filed 9-14-21; 8:45 am]

BILLING CODE 6730-02-P